DEPARTMENT OF COMMERCE

National Institute of Standards and Technology

Submission for OMB Review; Comment Request

The Department of Commerce will submit to the Office of Management and Budget (OMB) for clearance the following proposal for collection of information under the provisions of the Paperwork Reduction Act.

Agency: National Institute of Standards and Technology (NIST).

Title: NIST Generic Clearance for Community Resilience Data Collections.

OMB Control Number: #0693-0078.

Form Number(s): None.

Type of Request: Regular submission (revision and extension of a currently approved information collection.)

Number of Respondents: 20,000.

Average Hours per Response: Varied, dependent upon the data collection method used. The possible response time to complete a questionnaire may be 15 minutes or 2 hours to participate in an interview. The overall average response time is expected to be 30 minutes.

Burden Hours: 15,000.

Needs and Uses: NIST proposes to conduct a number of data collection efforts within the topic areas of disaster and failure studies and community resilience and sustainability, including studies of specific disaster events (e.g., wildfire, urban fire, structure collapse, hurricane, earthquake, tornado, and flood events), assessments of community resilience and sustainability, and evaluations of the usability and utility of NIST guidance or other products. The results of the data collected will be used to decrease negative impacts of disasters on society, and, in turn, increase community resilience with the U.S. communities. NIST will limit its inquires to data collections that solicit strictly voluntary opinions or responses. Steps will be taken to assure anonymity covered under this request.

Affected Public: Individuals or households; business or other for-profit organizations, not-for-profit institutions, State, Local or Tribal Government; Federal government.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-12567 Filed 6-13-19; 8:45 am]

BILLING CODE 3510-13-P